DEPARTMENT OF THE INTERIOR

Fish and Wildlife Service

[FWS-R9-IA-2011-N063; 96300-1671-0000-P5]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
Endangered Species
069439 | Steve Martin's Working Wildlife | 75 FR 62139; October 07, 2010 | March 10, 2011.
781606 | Wildlife Conservation Society | 75 FR 82409; December 30, 2010 | March 8, 2011.
25983A | Mote Marine Laboratory | 75 FR 82409; December 30, 2010 | March 11, 2011.
31720A | David Hubbard | 76 FR 7580; February 10, 2011 | March 17, 2011.
32570A | Robert Amon | 76 FR 7580; February 10, 2011 | March 17, 2011.
Marine Mammals
046081 | U.S. Fish and Wildlife Service, Marine Mammals Management | 75 FR 57977; September 23, 2010 | March 11, 2011.

Availability of Documents

Documents and other information submitted with these applications are available for review, subject to the requirements of the Privacy Act and Freedom of Information Act, by any party who submits a written request for a copy of such documents to:

Dated: March 18, 2011.
Brenda Tapia,
Program Analyst/Data Administrator, Branch of Permits, Division of Management Authority.

[FR Doc. 2011-6831 Filed 3-22-11; 8:45 am]

BILLING CODE 4310-55-P